DEPARTMENT OF AGRICULTURE

Submission for OMB Review; Comment Request

February 22, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 29, 2019 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Federal-State Supplemental Nutrition Programs Agreement (Form FNS-339) Reporting and Recordkeeping Burden.

OMB Control Number: 0584-0332.

Summary of Collection: The FNS-339 is an annual contract between the U.S. Department of Agriculture (USDA) and each State, Territory, and Indian Tribal Government agency seeking to operate one or more of the following programs: The Special Supplemental Nutrition Program for Women, Infants and Children (WIC), the WIC Farmers' Market Nutrition Program (FMNP), and the Seniors Farmers' Market Nutrition Program (SFMNP). The Food and Nutrition Service (FNS), of the USDA, is authorized to administer the WIC and the FMNP programs under the following authority: Section 17 of the Child Nutrition Act (CNA) of 1966, as amended, and the SFMNP under 7 U.S.C. 3007. Federal regulations at: 7 Code of Federal Regulations (CFR) 246.3(c), 248.3(c), and 249.3(c) require that each State agency desiring to administer the WIC, FMNP, and/or SFMNP programs must enter into a written agreement with the Department for administration of the program(s) in the jurisdiction of the State agency. Likewise, a signed FNS-339 between the Department and the State agency is a prerequisite to State agencies receiving federal funds in the administration of one or more programs.

Need and Use of the Information: FNS uses the signed, FNS-339 to effectuate the use of federal funds for the administration of the WIC, FMNP, and SFMNP programs. The Department agrees to make funds available to the State Agency for the administration of the WIC, FMNP, and/or SFMNP in accordance with federal regulations (7 CFR parts 246, 248, and 249) and any amendments thereto. The State agency agrees to accept Federal funds for expenditure in accordance with the applicable statutes and federal regulations, and any amendment thereto, and to comply with all the provisions of such statutes and regulations, and amendments thereto. Likewise, by signing the FNS-339, the State agency agrees that it will comply with applicable laws, regulations and policies governing civil rights, discrimination, disability, equal employment, and a drug-free work place.

Description of Respondents: State, Territory, and Indian Tribal Governments.

Number of Respondents: 129.

Frequency of Responses: Reporting: Annually.

Total Burden Hours: 32.25.

Ruth Brown,
Departmental Information Collection Clearance Officer.

[FR Doc. 2019-03432 Filed 2-26-19; 8:45 am]

BILLING CODE 3410-30-P